ENVIRONMENTAL PROTECTION AGENCY

[EPA-HQ-OPP-2025-0049; FRL-13123-01-OMS]

Agency Information Collection Activities; Submission to the Office of Management and Budget for Review and Approval; Comment Request; Bilingual Pesticide Labeling Tracking (New)

AGENCY: Environmental Protection Agency (EPA).

ACTION: Notice.

SUMMARY: The Environmental Protection Agency (EPA) has submitted the following information collection request (ICR), Bilingual Pesticide Labeling (EPA ICR Number 7795.01, OMB Control Number 2070-NEW) to the Office of Management and Budget (OMB) for review and approval in accordance with the Paperwork Reduction Act. Public comments were previously requested via the Federal Register on July 21, 2025. This notice allows for an additional 30 days for public comments.

DATES: Comments must be received on or before January 12, 2026.

ADDRESSES: Submit your comments, referencing Docket ID Number EPA-HQ-OPP-2025-0049, to EPA online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Office of Critical Mission Operations (Mail Code 7602M), Office of Chemical Safety and Pollution Prevention, Environmental Protection Agency, 1200 Pennsylvania Ave. NW, Washington, DC 20460-0001; telephone number: (202) 566-1205; email address: siu.carolyn@epa.gov.

SUPPLEMENTARY INFORMATION: This is a request for approval of a new collection. An agency may not conduct or sponsor and a person is not required to respond to a collection of information unless it displays a currently valid OMB control number.

Public comments were previously requested via the Federal Register on July 21, 2025, during a 60-day comment period (90 FR 34269). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This is a new information collection activity that covers the paperwork burden for tracking the adoption of bilingual labeling of pesticide products. This ICR was developed as part of a requirement by the Pesticide Registration Improvement Act (PRIA). PRIA was enacted in 2004 and established a new system for registering pesticides including fees and guaranteed decision times, along with funding for farmworker protection activities. PRIA was reauthorized in 2007, 2012, 2019, and most recently on December 29, 2022 (PRIA 5). PRIA 5 amended the Federal Insecticide, Fungicide, and Rodenticide Act (FIFRA) to require bilingual language translation for parts of the end-use pesticide product labels where translation is available in the EPA Spanish Translation Guide for Pesticide Labeling (or the Spanish Translation Guide). PRIA 5 requires that each registered pesticide product released for shipment include either the bilingual language translation for parts of the labeling contained in EPA's Spanish Translation Guide on the pesticide product container, or a link to such translation via scannable technology or other electronic methods readily accessible on the product label. Currently, bilingual labeling is implemented through a non-notification process (see PR Notice 98-10, entitled “Notifications, Non-Notifications and Minor Formulation Amendments” dated October 22, 1998). The non-notification process means that a product label may be updated with Spanish translations without notifying EPA (or EPA reviewing the label), if that is the only change being made to the label. Non-notification label changes are not systematically tracked by EPA. However, PRIA 5 also requires EPA to “develop and implement, and make publicly available, a plan for tracking the adoption of the bilingual labeling.” In response, EPA has developed a plan for tracking the adoption of the bilingual labeling. Public comments were originally requested on the draft plan during a 30-day comment period beginning on January 2, 2025 (90 FR 99 (FRL-12231-01)).

In addition to the ICR, EPA is publishing a final Pesticide Registration Notice (PRN), “Establishment of a Plan to Track the Adoption of Bilingual Labeling on End Use Pesticide Product Labels”, which provides guidance and clarification to pesticide registrants and the public on how the Agency will track the adoption of bilingual labeling. While the requirements in the FIFRA and EPA regulations are binding on EPA and applicants, the PRN is not binding on EPA personnel, pesticide registrants and applicants, or the public. EPA may depart from the guidance where circumstances warrant and without prior notice. Likewise, pesticide applicants may assert that the guidance is not appropriate generally or not applicable to a specific pesticide product or registration decision. Registrants and applicants may propose alternatives to the guidance provided in any application to the Agency.

Form number: PFN-8500-31.

Respondents/affected entities: Entities potentially affected by this ICR include pesticide importers, pesticide manufacturers and government establishments responsible for agricultural pest and weed regulation.

Respondent's obligation to respond: Mandatory. 40 CFR 152.

Estimated number of potential respondents: 1,517.

Frequency of response: Annually.

Total estimated burden: 27,784 hours (per year). Burden is defined at 5 CFR 1320.3(b).

Total estimated costs: $3,648,965 (per year), which includes $0 annualized capital or operation & maintenance costs.

Changes in the estimates: This is a new collection.

Courtney Kerwin,
Deputy Director, Data and Enterprise Programs Division.

[FR Doc. 2025-22589 Filed 12-11-25; 8:45 am]

BILLING CODE 6560-50-P